ELECTION ASSISTANCE COMMISSION

Publication of State Administrative Complaint Procedures Pursuant to the Help America Vote Act

AGENCY: U.S. Election Assistance Commission (EAC).

ACTION: Notice.

SUMMARY: Pursuant to sections 253(b)(2) and 255(b) of the Help America Vote Act (HAVA), Public Law 107-252, the U.S. Election Assistance Commission (EAC) hereby causes to be published in the Federal Register the State administrative complaint procedures submitted by thirty-one States that had not included these procedures in their State plans previously published by EAC in the Federal Register.

DATES: This notice is effective upon publication in the Federal Register.

FOR FURTHER INFORMATION CONTACT: Bryan Whitener, Telephone 202-566-3100 or 1-866-747-1471 (toll-free).

Submit Comments: Any comments regarding the procedures published herewith should be made in writing to the chief election official of the individual States at the address listed below.

SUPPLEMENTARY INFORMATION: HAVA section 253(b)(2) requires States, as a condition of receiving requirements payments in accordance with HAVA sections 251 and 252, to have filed with EAC a plan for the implementation of the uniform, nondiscriminatory administrative complaint procedures required under HAVA section 402 (or to have included such a plan in the State plan filed under HAVA section 254), and to have such procedures in place. If the State did not include such an implementation plan in its State plan, HAVA section 253(b)(2) requires that the requirements of HAVA sections 255(b) and 256 apply to the complaint procedures implementation plan. HAVA section 256 requires the State to make a preliminary version of the plan available for public inspection and comment for thirty days, to publish notice that the plan is so available, and to take public comments into account in preparing the complaint procedures implementation plan filed with EAC. HAVA section 255(b) requires EAC to publish the plan in the Federal Register, after the required State public comment period.

On March 24, 2004, the EAC published in the Federal Register the original HAVA State plans filed by the fifty States, the District of Columbia and the Territories of American Samoa, Guam, Puerto Rico, and the U.S. Virgin Islands. 69 FR 14002. Twenty-one States included their administrative complaint procedures in their original HAVA State plans. On September 30, 2004, EAC published in the Federal Register amendments to the State plans submitted by Nevada and South Carolina that also included the States' administrative complaint procedures. 69 FR 58630. On March 11, 2005, EAC published in the Federal Register amendments to Oklahoma's State plan that also included the State's administrative complaint procedures. 70 FR 12356. Another thirty-one States have submitted plans to implement the administrative complaint procedures separately from any State plans filed with EAC. These implementation plans are published herein, in accordance with HAVA sections 253(b)(2) and 255(b).

EAC notes that the plans to implement State administrative complaint procedures that are published herein include only those that have already met the notice and comment requirements of HAVA section 256, as required by HAVA section 253(b)(2). EAC wishes to acknowledge the effort that went into the developing these implementation plans and encourages further public comment, in writing, to the State election official of the individual States listed below.

Thank you for your interest in improving the voting process in America.

Chief State Election Officials

Alabama

The Honorable Nancy Worley, Secretary of State, P.O. Box 5616, Montgomery, AL 36103-5616, Phone: 334-242-7205, Fax: 334-242-4993, E-mail: sos@sos.al.gov.

Alaska

Ms. Laura A. Glaiser, Director, State of Alaska Division of Elections, PO Box 110017, Juneau, AK 99811-0017, Phone: 907-465-4611, Fax: 907-465-3203, E-mail: elections@gov.state.ak.us.

Arizona

The Honorable Jan Brewer, Secretary of State, Capitol Executive Tower 7th Floor, 1700 West Washington Street, Phoenix, AZ 85007-2888, Phone: (602) 542-8683, Fax: (602) 542-6172, E-mail: elections@azsos.gov.

Arkansas

The Honorable Charlie Daniels, Secretary of State, 256 State Capitol, Building, Little Rock, AR 72201, Phone: 501-682-3419, Fax: 501-682-3408, E-mail: electionsemail@sos.arkansas.gov.

Colorado

Mr. William A. Hobbs, Deputy Secretary of State, 1700 Broadway, Suite 270, Denver, CO 80290, Phone: 303-894-2200, Fax: 303-869-4861, E-mail: sos.elections@sos.state.co.us.

Connecticut

The Honorable Susan Bysiewicz, Secretary of State, State Capitol, Room 104, Hartford, CT 06106, Phone: 860-509-6100, Fax: 860-509-6127, E-mail: lead@po.state.ct.us.

District of Columbia

Ms. Alice P. Miller, Executive Director, Board of Elections & Ethics, 441 Fourth St. NW, Suite 250N, Washington, DC 20001, Phone: 202-727-2525, Fax 202-347-2648, E-mail: boee@dc.gov.

Georgia

The Honorable Cathy Cox, Secretary of State, 2 Martin Luther King Jr. Drive S.E., Suite 1104, West Tower, Atlanta, GA 30334-1530, Phone: 404-656-2871, Fax: 404-651-9531, E-mail: sosweb@sos.state.ga.us.

Guam

Mr. Gerald A. Taitano, Executive Director, Guam Election Commission, P.O. Box BG, Hagåtña, GU 96910, Phone: 671-477-9791, Fax: 671/477-1895, E-mail: gec@ite.net.

Hawaii

Mr. Dwayne D. Yoshina, Chief Election Officer, State of Hawaii Office of Elections, 802 Lehua Avenue, Pearl City, HI 96782, Phone: 808-453-8683, Fax: 808-453-6006, E-mail: elections@aloha.net.

Idaho

The Honorable Ben Ysursa, Secretary of State, P.O. Box 83720, Boise, ID 83720-0080, Phone: 208-334-2852, Fax: 208-334-2282, E-mail: sosinfo@idsos.state.id.us.

Illinois

Mr. Daniel W. White, Executive Director, State Board of Elections, P.O. Box 4187, Springfield, IL 62708, Phone: 217-782-4141, Fax: 217-782-5959, E-mail: dwhite@elections.state.il.us.

Kentucky

Ms. Sarah Ball Johnson, Executive Director, State Board of Elections, 140 Walnut Street, Frankfort, KY 40601-3240, Phone: 502-573-7100, Fax: 502-573-4369, E-mail: sarahball.johnson@ky.gov.

Massachusetts

The Honorable William Francis Galvin, Secretary of the Commonwealth, State House, Room 337, Boston, MA 02133, Phone: 617-727-2828, Fax: 617-742-3238, E-mail: elections@sec.state.ma.us.

Mississippi

The Honorable Eric Clark, Secretary of State, P.O. Box 136, Jackson, MS 39205-0136, Phone: 601-359-6359, Fax: 601-359-5019, E-mail: Administrator@sos.state.ms.us.

Missouri

The Honorable Robin Carnahan, Secretary of State, State Information Center, PO Box 1767, Jefferson City, MO 65102-1767, Phone: 573-751-2301, Fax: 573-526-3242, E-mail: elections@sos.mo.gov.

New Hampshire

The Honorable William Gardner, Secretary of State, State House, Room 204, Concord, New Hampshire 03301, Phone: 603-271-3242, Fax: 603-271-6316, E-mail: elections@sos.state.nh.us.

New Jersey

Mr. Ramón de la Cruz, Director, Division of Elections, Office of the Attorney General, P.O. Box 304, Trenton, NJ 08625-0304, Phone: 609-292-3760, Fax: 609-777-1280, E-mail: njelections@lps.state.nj.us.

New Mexico

The Honorable Rebecca Vigil-Giron, Secretary of State, State Capitol Annex North, 325 Don Gaspar, Suite 300, Santa Fe, NM 87503, Phone: 505-827-3600, Fax: 505-827-8403, E-mail: secstate@state.nm.us.

New York

Mr. Peter Kosinski, Deputy Executive Director, State Board of Elections, 40 Steuben Street, Albany, NY 12207-2108, Phone: 518-474-8100, Fax: 518-486-4068; E-mail: info@elections.state.ny.us.

Ohio

The Honorable J. Kenneth Blackwell, Secretary of State, 180 E. Broad Street, 16th Floor, Columbus, OH 43215, Phone: 614-466-2655, Fax: 614-644-0649, E-mail: election@sos.state.oh.us.

Oregon

The Honorable Bill Bradbury, Secretary of State, 141 State Capitol, Salem, OR 97310-0722, Phone: 503-986-1518, Fax: 503-373-7414, E-mail: elections-division@sosinet.sos.state.or.us.

Puerto Rico

Lcdo. Aurelio Gracia Morales, Presidente, State Elections Commission, P.O. Box 195552, San Juan, PR 00919-5552, Phone: 787-77-8675, Fax: 787-296-0173, E-mail: comentarios@cee.gobierno.pr.

Rhode Island

Mr. Robert Kando, Executive Director, Rhode Island Board of Elections, 50 Branch Avenue, Providence, RI 02904-2790, Phone: 401-222-2345, Fax: 401-222-3135, E-mail: campaignfinance@elections.ri.gov.

South Dakota

The Honorable Chris Nelson, Secretary of State, Capitol Building, 500 East Capitol Avenue, Suite 204, Pierre, SD 57501-5070, Phone: 605-773-3537, Fax: 605-773-6580; E-mail: sdsos@state.sd.us.

Texas

The Honorable Roger Williams, Secretary of State, P.O. Box 12887, Austin, TX 78711-2887, Phone: 512-463-5770, Fax: 512-475-2761, E-mail: secretary@sos.state.tx.us.

Vermont

The Honorable Deborah L. Markowitz, Secretary of State, Redstone Building, 26 Terrace Street, Drawer 09, Montpelier, VT 05609-1101, Phone: 802-828-2304, Fax: 802-828-5171; E-mail: dmarkowitz@sec.state.vt.us.

Virginia

Ms. Jean R. Jensen, Secretary, State Board of Elections, 200 North 9th Street, Suite 101, Richmond, VA 23219, Phone: 804-864-8901, Fax: 804-371-0194, E-mail: HAVA@sbe.virginia.gov.

Virgin Islands

Mr. John Abramson, Jr., Supervisor of Elections, Election System of the Virgin Islands, P.O. Box 1499, Kingshill, St. Croix, VI 00851-1499, Phone: 340-773-1021, Fax: 340-773-4523, E-mail: electionsys@unitedstates.vi.

Washington

The Honorable Sam Reed, Secretary of State, P.O. Box 40220, Olympia, WA 98504-0220, Phone: 360-902-4151, Fax: 360-586-5629, E-mail: elections@secstate.wa.gov.

Wisconsin

Mr. Kevin J. Kennedy, Executive Director, Wisconsin State Elections Board, P.O. Box 2973, Madison, WI 53701-2973, Phone: 608-266-8005, Fax: 608-267-0500, E-mail: seb@seb.state.wi.us.

Dated: August 22, 2005.
Gracia M. Hillman,
Chair, U.S. Election Assistance Commission.

BILLING CODE 6820-KF-P

[FR Doc. 05-17101 Filed 8-31-05; 8:45 am]

BILLING CODE 6820-KF-C